DEPARTMENT OF ENERGY

Federal Energy Regulatory Commission

[Docket No. CP02-381-001]

Texas Eastern Transmission, LP; Notice of Compliance Filing

April 7, 2004.

Take notice that on March 31, 2004, Texas Eastern Transmission, LP (Texas Eastern) tendered for filing as part of its FERC Gas Tariff, Seventh Revised Volume No. 1, the tariff sheets listed in Appendix A of the filing proposed to be effective on May 1, 2004.

Texas Eastern states that the purpose of this filing is to comply with the Commission's Orders issued in Docket No. CP02-381-000, on October 31, 2002, and February 28, 2003, in which the Commission approved Texas Eastern's application for a certificate of public convenience and necessity authorizing the construction of certain pipeline facilities referred to as the M-1 Expansion Project. Texas Eastern states that the revised tariff sheets reflect the recourse rate for the M-1 Expansion Project service, and incorporate references to the new incremental M-1 Expansion Project service into Rate Schedule FT-1 and the General Terms and Conditions of the Tariff.

Texas Eastern states that copies of its filing have been served upon all affected customers and interested State commissions, as well as on all parties on the official service list in this proceeding.

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: April 19, 2004.

Linda Mitry,
Acting Secretary.

[FR Doc. E4-831 Filed 4-13-04; 8:45 am]

BILLING CODE 6717-01-P